GOVERNMENT ACCOUNTABILITY OFFICE

Request for Nominations for Board of Governors of the Patient-Centered Outcomes Research Institute (PCORI)

AGENCY: Government Accountability Office (GAO).

ACTION: Request for letters of nomination and resumes.

SUMMARY: The Patient Protection and Affordable Care Act gave the Comptroller General of the United States responsibility for appointing 19 members to the Board of Governors of the Patient-Centered Outcomes Research Institute. In addition, the Directors of the Agency for Healthcare Research and Quality and the National Institutes of Health, or their designees, are members of the Board. As the result of terms ending in September 2016, GAO is accepting nominations in the following two categories required in statute: A representative of hospitals, and a representative of pharmaceutical, device, or diagnostic manufacturers or developers. Letters of nomination and resumes should be submitted no later than July 21, 2016 to ensure adequate opportunity for review and consideration of nominees prior to appointment. Acknowledgement of submissions will be provided within a week of submission. Please contact Mary Giffin at (202) 512-3710 if you do not receive an acknowledgement.

ADDRESSES: Nominations can be submitted to either of the following: Email: PCORI@gao.gov. Mail: U.S. GAO, Attn: PCORI Board Appointments, 441 G Street NW., Washington, DC 20548.

FOR FURTHER INFORMATION CONTACT: GAO: Office of Public Affairs, (202) 512-4800. [Sec. 6301 and Sec. 10602, Pub. L. 111-148]

Gene L. Dodaro,
Comptroller General of the United States.

[FR Doc. 2016-14157 Filed 6-16-16; 8:45 am]

BILLING CODE 1610-02-M